CONSUMER PRODUCT SAFETY COMMISSION

Privacy Act of 1974; Announcement of Revisions to Systems of Records

AGENCY: Consumer Product Safety Commission.

ACTION: Notice of revisions to Systems of Records.

SUMMARY: The Consumer Product Safety Commission (CPSC or Commission) is publishing notice of the deletion of five systems of records and the addition of one new system of records, CPSC-23, Equal Employment Opportunity (EEO) Disability/Accommodation Files. Comments on the new system of records must be received on or before February 19, 2008.

DATES: The deletions are effective December 18, 2007 and the new system of records will become effective February 19, 2008, unless comments are received by that date which justify a contrary determination.

ADDRESSES: Written comments should be e-mailed to the Office of the Secretary at cpsc-os@cpsc.gov, or sent by mail to the Office of the Secretary, Consumer Product Safety Commission, 4330 East West Highway, Bethesda, Maryland 20814. Comments may also be sent by facsimile to (301) 504-0127.

FOR FURTHER INFORMATION CONTACT: Linda L. Glatz, Division of Policy and Planning, Office of Information Technology and Technology Services, Consumer Product Safety Commission, 4330 East West Highway, Bethesda, Maryland 20814; (301) 504-7671, or by e-mail to lglatz@cpsc.gov.

SUPPLEMENTARY INFORMATION: The Commission is deleting five systems of records: CPSC-16, Equal Employment Opportunity Counseling Files; CPSC-18, Procurement Integrity Files; CPSC-19, Office of Hazard Identification and Reduction Tracking System; CPSC-21, Contractor Personnel Security System File; and CPSC-22, Management Information System. CPSC-16, Equal Employment Opportunity Counseling Files, is now covered by a government-wide system of records notice, EEOC/GOVT-1 published by the Office of Equal Opportunity, Equal Employment Opportunity Commission. CPSC-18, Procurement Integrity Files no longer exists and is being deleted. CPSC-19, Office of Hazard Identification and Reduction Tracking System contains individuals' names but does not meet the definition of a “system of records” for purposes of the Privacy Act. CPSC-22, Management Information System, is no longer maintained as a system of records although MIS codes are used in a system maintained by the Department of Interior's National Business Center and covered under their system of records notice. CPSC-21, Contractor Personnel Security System File information is merged with CPSC-20, Personnel Security File and no longer exists as a separate system of records.

The Consumer Product Safety Commission is also announcing a new system of records, CPSC-23, Equal Employment Opportunity Disability/Accommodation Files. This system will be used to maintain records of employees who initiate reasonable accommodation requests under the Rehabilitation Act, 29 U.S.C. 794, and Americans with Disabilities Act, 42 U.S.C. 12101.

The Congress and the Office of Management and Budget have been notified of the new system of records.

Dated: December 12, 2007.
Todd A. Stevenson,
Secretary, Consumer Product Safety Commission.

CPSC-23

System name:

CPSC-23, Equal Employment Opportunity (EEO) Disability/Accommodation Files.

System location:

Office of Equal Employment Opportunity and Minority Enterprise, Consumer Product Safety Commission, 4330 East West Highway, Bethesda, MD 20814.

Categories of individuals covered by the system:

Individuals who initiate reasonable accommodation requests pursuant to Rehabilitation Act and Americans with Disabilities Act.

Categories of records maintained in the system:

Correspondence and email requests for information submitted to the Commission regarding the request for reasonable accommodation, e.g., employee name, address, city, state, telephone number and other pertinent information related to their disability.

Authority for Maintenance of the system:

Rehabilitation Act, 29 U.S.C. 794, and Americans with Disabilities Act, 42 U.S.C. 12101.

Purpose:

These records are used by Commission staff responding to a request for reasonable accommodation so that requests can be tracked, evaluated and responded to accurately and in a timely manner.

Routine Uses:

1. For the official use of those with a need to know. This may include the deciding official, the appellate authority, the Personnel Director, the Disability Program Manager, and the Office of the General Counsel.

2. Disclosure may be made to a congressional office from the record of an individual in response to an inquiry from the congressional office made at the request of that individual.

3. To disclose, in response to a request for discovery or for appearance of a witness, information that is relevant to the subject matter involved in a pending judicial or administrative proceeding.

Policies and Practices for Storing, Retrieving, Accessing, Retaining, and Disposing of Records in the System:

Storage:

Records will be maintained in hard copy in file folders or on computer disk/drive.

Retrievability:

Records will be indexed and retrieved by name.

Safeguards:

Records are maintained in locked files in a secured area and access is limited to those persons whose official duties require such access.

Retention and Disposal:

Records are maintained for three years from date of final action and then destroyed.

System Manager and Address:

Director, Office of Equal Employment Opportunity and Minority Enterprise, Consumer Product Safety Commission, 4330 East West Highway, Bethesda, MD 20814.

Notification Procedures:

Freedom of Information/Privacy Act Officer, Office of the Secretary, Consumer Product Safety Commission, 4330 East West Highway, Bethesda, MD 20814.

Record Access Procedures:

Same as notification.

Contesting Record Procedures:

Same as notification.

Records Source Categories:

Information in these records is furnished by: (1) Individual to whom the record pertains; (2) Agency officials; (3) Affidavits or statements from employee; (4) Testimonies of witnesses; (5) Official documents relating to appeal, grievance, or complaints; (6) Correspondence from specific organizations or persons.

[FR Doc. E7-24436 Filed 12-17-07; 8:45 am]

BILLING CODE 6355-01-P